DEPARTMENT OF STATE

[Public Notice 8631]

Notice of Closed Meeting of the Cultural Property Advisory Committee

There will be a closed meeting of the Cultural Property Advisory Committee on Thursday, March 13, and Friday, March 14, 2014, at the Department of State, Annex 5, 2200 C Street NW., Washington, DC.

The Committee will conduct interim reviews of the Memorandum of Understanding Between the Government of the United States of America and the Government of the Republic of Italy Concerning the Imposition of Import Restrictions on Categories of Archaeological Material Representing the Pre-Classical, Classical and Imperial Roman Periods of Italy, and the Memorandum of Understanding Between the Government of the United States of America and the Government of the Republic of Colombia Concerning the Imposition of Import Restrictions on Archaeological Materials from the Pre-Columbian Cultures and Certain Ecclesiastical Material from the Colonial Period of Colombia. Public comment, oral and written, will be invited at a time in the future should either or both of these Memoranda of Understanding be proposed for extension.

The Committee's responsibilities are carried out in accordance with provisions of the Convention on Cultural Property Implementation Act (19 U.S.C. 2601 et seq.). The text of the Act and Memoranda of Understanding, as well as related information, may be found at http://culturalheritage.state.gov.

This meeting will be closed pursuant to 5 U.S.C. 552b(c)(9)(B) and 19 U.S.C. 2605(h), the latter of which stipulates that “The provisions of the Federal Advisory Committee Act . . . shall apply to the [Cultural Property Advisory] Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Pursuant to law, executive order, and delegation of authority, I have made such a determination.

Dated: February 7, 2014.
Evan Ryan,
Assistant Secretary, Bureau of Educational and Cultural Affairs, U.S. Department of State.

[FR Doc. 2014-03298 Filed 2-13-14; 8:45 am]

BILLING CODE 4710-05-P